ENVIRONMENTAL PROTECTION AGENCY

[EPA-HQ-OPP-2006-0687; FRL-8091-3]

Petition to Amend Certain FIFRA Section 25(b) Pesticide Products; Notice of Availability

AGENCY: Environmental Protection Agency (EPA).

ACTION: Notice.

SUMMARY: This notice identifies a petition filed by the Consumer Specialty Products Association (CSPA) pertaining to FIFRA section 25(b) pesticide products. The petition requests the Agency to modify the minimum risk regulations at 40 CFR 152.25(f) for those products that claim to control public health pests (as defined in Pesticide Registration (PR) Notice 2002-1) and requests that any such product making public health claims be subject to EPA registration requirements as a precondition of their sale. The Agency has determined that the petition may be of regional and national significance.

DATES: Comments must be received on or before November 13, 2006.

ADDRESSES: Submit your comments, identified by docket identification (ID) number EPA-HQ-OPP-2006-0687, by one of the following methods:

•Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Building), 2777 S. Crystal Drive, Arlington, VA. Deliveries are only accepted during the Docket's normal hours of operation (8:30 a.m. to 4 p.m., Monday through Friday, excluding legal holidays). Special arrangements should be made for deliveries of boxed information. The Docket telephone number is (703) 305-5805.

Instructions: Direct your comments to docket ID number EPA-HQ-OPP-2006-0687. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The Federal regulations.gov Web site is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Building), 2777 S. Crystal Drive, Arlington, VA. The hours of operation of this Docket Facility are from 8:30 a.m. to 4 p.m., Monday through Friday, excluding legal holidays. The Docket telephone number is (703) 305-5805.

FOR FURTHER INFORMATION CONTACT: Brian Steinwand, Biopesticide and Pollution Prevention Division (7511P), Office of Pesticide Programs, Environmental Protection Agency, 1200 Pennsylvania Ave., NW., Washington, DC 20460-0001; telephone number: (703) 305-7973; fax number: (703) 308-7026; e-mail address: steinwand.brian@epa.gov.

SUPPLEMENTARY INFORMATION:

I. General Information

A. Does this Action Apply to Me?

You may be potentially affected by this action if you produce, manufacture, distribute, sell or use exempted products that claim to control public health pests. Potentially affected entities may include, but are not limited to: Registered and unregistered establishments that commercialize products that claim to control or mitigate any pests that pose a threat to human health.

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions in 40 CFR 152.25(f). If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date, and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What is the Basis of the Petition?

The minimum risk pesticide exemption at 40 CFR 152.25(f) exempts from the requirements of FIFRA those products whose only active ingredients are among a set of ingredients listed in the exemption, provided that, among other things:

1. The only inert ingredients in the product are those listed in the most current List 4A (minimal risk ingredients);

2. The product does not “bear claims either to control or mitigate microorganisms that pose a threat to human health, including but not limited to disease transmitting bacteria or viruses, or claims to control insects or rodents carrying specific diseases, including, but not limited to ticks that carry Lyme disease”; and

3. The product does not “include any false and misleading labeling statements, including those listed in 40 CFR 156.10(a)(5)(i) through (viii).”

The petitioner argues that the exemption in 40 CFR 152.25(f) as currently written, endangers public health by permitting labeling claims for effectiveness against public health pests without requiring proof that these exempt pesticides are effective against such pests.

III. What Action is the Agency Taking?

Through this notice, the Agency is providing notice of the petition submitted by CSPA and is asking for public comment. Following the review of the petition and any comments received in response to this notice, EPA will decide how best to respond to the petition. The petition, as well as a summary prepared by the petitioner is available on EPA's Electronic Docket at http://www.regulations.gov. To locate this information on the homepage of EPA's Electronic Docket, select “Quick Search” and type the OPP docket ID number EPA-HQ-OPP-2006-0687. Once the search has located the docket, clicking on “Docket ID” will bring up a list of all documents in the docket related to the petition.

List of Subjects

Environmental protection, Pesticides and pests.

Dated: September 1, 2006.
James Jones,
Director, Office of Pesticide Programs.

[FR Doc. E6-15204 Filed 9-12-06; 8:45 am]

BILLING CODE 6560-50-S